DEPARTMENT OF HEALTH AND HUMAN SERVICES

Office of Inspector General

Healthcare Integrity and Protection Data Bank: Change in User Fees

AGENCY: Office of Inspector General (OIG), HHS.

ACTION: Notice.

SUMMARY: In accordance with final regulations implementing the Healthcare Integrity and Protection Data Bank (HIPDB) published in the Federal Register on October 26, 1999 (64 FR 57740), the Department is authorized to assess a fee on all requests for information, except requests from Federal agencies. In accordance with § 61.13 of the HIPDB regulations, the Department is announcing a one dollar increase—from $4 to $5—in the fee charged for queries submitted by authorized entities to query the data bank.

EFFECTIVE DATE: This increase will be effective on October 1, 2001.

SUPPLEMENTARY INFORMATION:

User Fee Amount

Section 1128E(d)(2) of the Social Security Act (the Act), as added by section 221(a) of the Health Insurance Portability and Accountability Act (HIPAA) of 1996, specifically authorizes the establishment of fees for the costs of processing requests for disclosure and for providing such information, and the final regulations at 45 CFR part 61 set forth the criteria and procedures for information to be reported to and disclosed by the HIPDB. The Act requires that the Department recover the full costs of operating the HIPDB through user fees. In determining any changes in the amount of the user fee, the Department is employing the criteria set forth in § 61.13(b) of the HIPDB regulations.

Specifically, § 61.13(b) states that the amount of each fee will be determined based on the following criteria:

• Direct and indirect personnel costs;

• Physical overhead, consulting, and other indirect costs including rent and depreciation on land, buildings and equipment;

• Agency management and supervisory costs;

• Costs of enforcement, research and establishment of regulations and guidance;

• Use of electronic data processing equipment to collect and maintain information, i.e., the actual cost of the service, including computer search time, runs and printouts; and

• Any other direct or indirect costs related to the provision of services.

The current fee structure of $4 for each separate query submitted by authorized entities was announced in a Federal Register notice on March 3, 2000 (65 FR 11589). Based on the above criteria and our analysis of the comparative costs of the various methods for filing and paying for queries, the Department is now increasing the fee for each query submitted by authorized entities by one dollar—from $4 to $5.¹

¹ As part of its obligations under the Privacy Act, the Department previously announced a $10 fee for health care practitioners, providers or suppliers to self-query (64 FR 58851; November 1, 1999).

When an authorized entity query is submitted for information on one or more health care practitioners, providers or suppliers, the appropriate total fee will be $5 multiplied by the number of individuals or organizations about whom information is being requested.

In order to minimize administrative costs, the Department will accept queries submitted by authorized entities by credit card or electronic funds transfer. The Department will continue to accept payment for self-queries only by credit card. The HIPDB accepts Visa, MasterCard, and Discover. To submit queries, registered entities (including law enforcement agencies) must use the HIPDB web site at www.npdb-hipdb.com.

The Department will continue to review the user fee periodically, and will revise it as necessary. Any future changes in the fee and its effective date will be announced through notice in the Federal Register.

Examples

Query method | Fee per name in query, by method of payment | Examples
Authorized Entity query | $5.00 | 10 names in query: 10 × $5 = $50.00.
Self-query | $10.00 | 10 self-queries 10 × 10 = $100.

Dated: May 31, 2001.
Michael F. Mangano,
Acting Inspector General.

[FR Doc. 01-14599 Filed 6-8-01; 8:45 am]

BILLING CODE 4152-01-U